DEPARTMENT OF LABOR

Mine Safety and Health Administration

Petitions for Modification

The following parties have filed petitions to modify the application of existing safety standards under section 101(c) of the Federal Mine Safety and Health Act of 1977.

1. Mississippi Lignite Mining Company

[Docket No. M-2005-003-C]

Mississippi Lignite Mining Company, Rt. 3 Box 98, Ackerman, Mississippi 39735 has filed a petition to modify the application of 30 CFR 77.803 (Fail safe ground check circuits on high-voltage resistance grounded systems) to its Red Hills Mine (MSHA I.D. No. 22-00690) located in Choctaw County, Mississippi. The petitioner requests a modification of the existing standard to allow an alternative method of compliance when raising or lowering the boom mast at construction sites during initial Dragline assembly. This method would only be used during the boom mast raising or lowering, and the machine will not be performing mining operations when raising or lowering the boom for construction or maintenance. The procedure would also be applicable in instances of disassembly or major maintenance which require the boom to be raised or lowered. The petitioner has listed specific guidelines in this petition that would be followed to minimize the potential for electrical power loss during this critical boom procedure. The petitioner asserts that the proposed alternative method would provide at least the same measure of protection as the existing standard.

2. Lone Mountain Processing, Inc.

[Docket No. M-2005-004-C]

Lone Mountain Processing, Inc., Drawer C, St. Charles, Virginia 24282 has filed a petition to modify the application of 30 CFR 75.901 (Protection of low- and medium-voltage three-phase circuits used underground) to its Clover Fork Mine (MSHA I.D. No. 15-18647) located in Harlan County, Kentucky. The petitioner proposes to use a 480-volt, three-phase, 300KW/375KVA diesel powered generator (DPG) set to supply power to a three-phase wye connected 300 KVA autotransformer and three-phase, 480-volt and 995-volt power circuits. The petitioner asserts that the proposed alternative method would provide at least the same measure of protection as the existing standard.

3. R S & W Coal Company, Inc.

[Docket No. M-2005-005-C]

R S & W Coal Company, Inc., 207 Creek Road, Klingerstown, Pennsylvania 17941 has filed a petition to modify the application of 30 CFR 75.332(b)(1) & (b)(2) (Working sections and working places) to its R S & W Drift Mine (MSHA I.D. No. 36-01818) located in Schuylkill County, Pennsylvania. The petitioner requests a modification of the existing standard to permit the use of air passing through inaccessible abandoned workings and additional areas not examined under 30 CFR 75.360, 30 CFR 75.361, and 30 CFR 75.364, to ventilate the only active working section provided the air meets the required quality specified in 30 CFR 75.321(a). This will ensure the maintenance of air quality by alternative methods of compliance through the sampling of section intake air at the gangway level during pre-shift, and on-shift examinations to test for carbon dioxide, methane, and oxygen deficiency and to suspend mine production when air quality contains more than 0.5 percent methane and 0.25 percent carbon dioxide. The petitioner has listed in this petition specific terms and conditions that would be followed when using its alternative method. The petitioner states that records will be maintained of all examinations. The petitioner asserts that the proposed alternative method would provide at least the same measure of protection as the existing standard.

4. Eastern Associated Coal Corp.

[Docket No. M-2005-006-C]

Eastern Associated Coal Corp., HCR 78, Box 113, Wharton, West Virginia 25208 has filed a petition to modify the application of 30 CFR 75.1711-1 (Sealing of shaft openings) to its Harris Mine (MSHA I.D. No. 46-01271) located in Boone County, West Virginia. The petitioner proposes to use an alternative method of compliance to seal and abandon the Bandy Branch bleeder/drainage shaft at the Harris No. 1 Mine using specific terms and conditions listed in the petition. The petitioner asserts that to completely fill the shaft would not be practical due to the relatively small opening left in the previous cap; that attempts to backfill the shaft with soil/rock materials would likely result in bridging of the materials at the opening and incomplete backfilling of the shaft and future settlement and/or shifting of the material could lead to unintentional venting of mine gases. The petitioner further states that capping and venting the shaft would not be practical due to the mine spoil placement activities associated with the valley fill. The petitioner asserts that the proposed alternative method would provide at least the same measure of protection as the existing standard.

Request for Comments

Persons interested in these petitions are encouraged to submit comments via Federal eRulemaking Portal: http://www.regulations.gov; e-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before March 17, 2005. Copies of these petitions are available for inspection at that address.

Dated in Arlington, Virginia this 9th day of February 2005.
Rebecca J. Smith,
Acting Director, Office of Standards, Regulations, and Variances.

[FR Doc. 05-2882 Filed 2-14-05; 8:45 am]

BILLING CODE 4510-43-P